COMMISSION ON CIVIL RIGHTS

Notice of Public Meeting of the Indiana Advisory Committee To Hear Testimony Regarding Voting Rights in Indiana

AGENCY: U.S. Commission on Civil Rights.

ACTION: Announcement of meeting.

SUMMARY: Notice is hereby given, pursuant to the provisions of the rules and regulations of the U.S. Commission on Civil Rights (Commission) and the Federal Advisory Committee Act that the Indiana Advisory Committee (Committee) will hold a meeting on Friday, March 2, 2018, from 9:00 a.m.-5:00 p.m. EST. The Committee will hear testimony regarding voting rights in the state.

DATES: The meeting will be held on Friday March 2, 2018, from 9:00 a.m.-5:00 p.m. EST.

ADDRESSES: Ivy Tech Community College Event Center, 2820 North Meridian Street in Indianapolis, IN, 46208.

FOR FURTHER INFORMATION CONTACT: Melissa Wojnaroski, DFO, at mwojnaroski@usccr.gov or 312-353-8311.

SUPPLEMENTARY INFORMATION: This meeting is open to the public. Members of the public are invited to make statements during the open comment period beginning at 4:30 p.m. In addition, members of the public may submit written comments; the comments must be received in the regional office within 30 days following the meeting. Written comments may be mailed to the Regional Programs Unit, U.S. Commission on Civil Rights, 55 W. Monroe St., Suite 410, Chicago, IL 60615. They may also be faxed to the Commission at (312) 353-8324, or emailed to Carolyn Allen at callen@usccr.gov. Persons who desire additional information may contact the Regional Programs Unit at (312) 353-8311.

Records and documents discussed during the meeting will be available for public viewing prior to and following the meeting at https://database.faca.gov/committee/meetings.aspx?cid=247 and following the links for “Meeting Details” and then “Documents.” Records generated from this meeting may also be inspected and reproduced at the Regional Programs Unit, as they become available, both before and after the meeting. Persons interested in the work of this Committee are directed to the Commission's website, http://www.usccr.gov, or may contact the Regional Programs Unit at the above email or street address.

Agenda (subject to change based on panelist confirmation and public participation needs):

Opening Remarks and Introductions (9:00 a.m.-9:15a.m.)

Panel 1: Legal (9:15 a.m.-10:30 a.m.)

Panel 2: Advocacy (10:45 a.m.-12:00 p.m.)

Break (12:00-1:00 p.m.)

Panel 3: Academic (1:00 p.m.-2:15 p.m.)

Panel 4: Government (2:30 p.m.-3:30 p.m.)

Panel 5: Political Parties (3:45 p.m.-4:30 p.m.)

Open Forum (4:30 p.m.-5:00 p.m.)

Closing Remarks (5:00 p.m.)

Dated: February 12, 2018.
David Mussatt,
Supervisory Chief, Regional Programs Unit.

[FR Doc. 2018-03193 Filed 2-15-18; 8:45 am]

BILLING CODE P